INTERNATIONAL TRADE COMMISSION

[Investigation No. 337-TA-406 (Consolidated Advisory Opinion and Enforcement Proceedings)]

In the Matter of Certain Lens-Fitted Film Packages; Order

On October 7, 2004, the United States Court of Appeals for the Federal Circuit issued two decisions in appeals stemming from the above-captioned proceedings, VastFame Camera, Ltd., et al. v. U.S. Int'l Trade Com'n, 386 F.3d 1108 (Fed. Cir. 2004) (“VastFame”) and Fuji Photo Film Co., Ltd., et al. v. U.S. Int'l Trade Com'n, 386 F.3d 1095 (Fed. Cir. 2004) (“Fuji”). The mandates issued in these cases on November 29, 2004. In VastFame, the Court reversed the Commission's decision to refuse to allow an importer who had not been a respondent in the original investigation to raise the defense of patent invalidity in the Commission's enforcement proceedings, vacated the enforcement decision, and remanded the case for proceedings consistent with its Opinion. In Fuji, the Court affirmed the majority of the Commission's determinations at issue, but vacated and remanded the Commission's infringement decision as to one asserted claim for redetermination of the infringement issue using a claim construction supplied by the Court.

It is hereby ordered that:

1. This investigation be remanded to Administrative Law Judge Paul J. Luckern in order that he may conduct such further proceedings as may be necessary to carry out the mandates of the Court and conclude the proceedings.

2. The presiding administrative law judge shall issue an initial determination in which he shall determine:

a. Whether claim 15 of U.S. Patent No. 4,884,087 is invalid;

b. Whether any of the respondents' accused disposable cameras imported into or sold in the United States infringe claim 1 of U.S. Patent No. 4,972,649 under the Federal Circuit's claim construction; and

c. Whether there are, in light of the determinations made in accordance with paragraph b. above, any further violations of section 337 of the Tariff Act of 1930.

3. The presiding administrative law judge may, in his discretion, reopen the evidentiary record to the extent necessary to resolve any new factual questions presented by the Court's opinion. His ID will be processed by the Commission in accordance with Commission Rules 210.42(h)(2) and 210.43-210.45, 19 CFR 210.42(h)(2) and 210.43-210.45.

4. In the event that the presiding administrative law judge determines that there have been additional violations of section 337 of the Tariff Act of 1930, he shall issue a recommended determination on whether any further enforcement measures are necessary.

By order of the Commission.
Issued: December 21, 2004.
Marilyn R. Abbott,
Secretary to the Commission.

[FR Doc. 04-28339 Filed 12-27-04; 8:45 am]

BILLING CODE 7020-02-P